DEPARTMENT OF ENERGY

Energy Information Administration

Agency Information Collection Activities: Proposed Collection; Comment Request

AGENCY: Energy Information Administration, Department of Energy (DOE).

ACTION: Agency information collection activities: proposed collection; comment request.

SUMMARY: The Energy Information Administration (EIA) is soliciting comments on the proposed extension for three years of the information collection, EIA-882T, “Generic Clearance for Questionnaire Testing, Evaluation, and Research.”

DATES: Written comments must be filed within 60 days of the publication of this notice. If you anticipate difficulty in submitting comments within that period, contact the person listed below as soon as possible.

ADDRESSES: Comments should be directed to Herbert Miller. To ensure receipt of the comments by the due date, submission by FAX (202-287-1705) or e-mail (Herbert.Miller@eia.doe.gov) is recommended. The mailing address is Statistics and Methods Group, EI-70, Forrestal Building, U.S. Department of Energy, Washington, DC 20585. Alternatively, Mr. Miller may be contacted by telephone at 202-287-1711.

FOR FURTHER INFORMATION CONTACT: Requests for additional information should be directed to Herbert Miller at the address listed above.

SUPPLEMENTARY INFORMATION:

I. Background

II. Current Actions

III. Request for Comments

I. Background

The Federal Energy Administration Act of 1974 (Pub. L. 93-275, 15 U.S.C. 761 et seq.) and the Department of Energy Organization Act (Pub. L. 95-91, 42 U.S.C. 7101 et seq.) require the Energy Information Administration (EIA) to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. chapter 35), provides the general public and other Federal agencies with opportunities to comment on collections of energy information conducted by or in conjunction with the EIA. Any comments received help the EIA prepare data requests that maximize the utility of the information collected, and to assess the impact of collection requirements on the public. Also, the EIA will later seek a three-year extension of this approval under Section 3507(a) of the Paperwork Reduction Act of 1995 from the Office of Management and Budget (OMB).

The EIA-882T was last extended for three years on July 26, 1999, and expires July 31, 2002. The information collections that would be conducted as part of this approval will facilitate EIA's use of techniques to improve our current information collections and to develop new collections. The goal is to improve the collections thereby reducing respondent burden and improving the quality of the information collected.

The information collections will include:

1. Pretests

Pretest methods will include face-to-face interviews, telephone interviews, mail questionnaires, and electronic questionnaires. Pretests conducted will generally be methodological studies of limited size, normally involving either purposive or statistically representative samples. They will include a variety of surveys, the exact nature and sample designs will be determined at the time of development of the pretests. The samples will be designed to clarify particular issues rather than to be representative of the universe. Collection may be on the basis of convenience, e.g., limited to specific geographic locations. The needs of a particular sample will vary based on the content of the information collection being tested, but the selection of sample cases will not be completely arbitrary in any instance.

2. Pilot surveys

Pilot surveys will generally be methodological studies of limited size, but will always employ statistically representative samples. The pilot surveys will replicate components of the methodological design, sampling procedures (where possible), and questionnaires of a full-scale survey. Pilot surveys may be utilized when EIA is undertaking a complete revamping of a survey methodology (e.g., moving to computer-assisted information collections) or when EIA is undertaking a new information collection.

3. Focus groups

Focus groups involve group sessions guided by a monitor who follows a topical outline containing questions or topics focused on a particular issue, rather than adhering to a standardized questionnaire. Focus groups are useful for surfacing and exploring issues. Focus groups are typically used with specific groups of stakeholders.

4. Cognitive interviews

Cognitive interviews are one-on-one interviews in which a respondent is typically asked to “think aloud” as he or she answers survey questions, reads survey materials, or completes other activities as part of a survey process. A number of different techniques may be involved, including asking respondents to paraphrase questions, probing questions to determine how respondents come up with their answers, and similar inquiries. The objective is to identify problems of ambiguity, misunderstanding, or other difficulties respondents have answering questions. This may be used as the first stage of questionnaire development.

A wide variety of uses are made of the data obtained through this generic clearance. These projects represent significant strides in our efforts to improve the pretesting of EIA surveys. As EIA gains more experience, we hope to broaden involvement in testing, evaluation, and research.

II. Current Actions

EIA plans to request a three-year extension of the OMB approval for this collection. For each information collection that EIA proposes to undertake under this generic clearance, OMB will be notified at least two weeks in advance, and provided with an information copy of the collection instrument and all other materials describing the testing activity. EIA will only undertake a collection if OMB does not object to EIA's proposal.

III. Request for Comments

Prospective respondents and other interested parties should comment on the actions discussed in item II. The following guidelines are provided to assist in the preparation of comments.

General Issues

A. Are the Types of Proposed Collections of Information Necessary for the Proper Performance of the Functions of the Agency and Does the Information Have Practical Utility?

Practical utility is defined as the actual usefulness of information to or for an agency, taking into account its accuracy, adequacy, reliability, timeliness, and the agency's ability to process the information it collects.

B. What Enhancements Can Be Made to the Quality, Utility, and Clarity of the Information To Be Collected?

As a Potential Respondent

A. Public reporting burden for collections under the generic clearance are estimated to average 25 minutes per response. The range for burden varies significantly depending on the particular type of testing activity undertaken. The estimated burden for each response includes the total time, effort, or financial resources expended to generate, maintain, retain, disclose and provide the information.

Please comment on the (1) the accuracy of the agency's estimate and (2) how the agency could minimize the burden of collecting this information, including the use of information technology.

B. The agency estimates that the only cost to a respondent is for the time it will take to complete the collection. Will a respondent incur start-up costs for reporting, or any recurring annual costs for operation, maintenance, and purchase of services associated with the information collection?

C. Does any other Federal, State, or local agency collect similar information? If so, specify the agency, the data element(s), and the methods of collection.

As a Potential Data User

A. Are there alternate sources for the information and are they useful? If so, what are their deficiencies and/or strengths?

Comments submitted in response to this notice will be summarized and/or included in the request for OMB approval of the form. They also will become a matter of public record.

Statutory Authority: Section 3507(h)(1) of the Paperwork Reduction Act of 1995 (Pub. L. No. 104-13, 44 U.S.C. Chapter 35).

Issued in Washington, DC February 1, 2002.
Jay H. Casselberry,
Agency Clearance Officer, Statistics and Methods Group, Energy Information Administration.

[FR Doc. 02-2955 Filed 2-6-02; 8:45 am]

BILLING CODE 6450-01-P